OFFICE OF THE UNITED STATES TRADE REPRESENTATIVE

Notice of Meeting of the Industry Trade Advisory Committee on Small and Minority Business (ITAC-11)

AGENCY: Office of the United States Trade Representative.

ACTION: Notice of a partially opened meeting.

SUMMARY: The Industry Trade Advisory Committee on Small and Minority Business (ITAC-11) will hold a meeting on Monday, December 8, 2008, from 9 a.m. to 3 p.m. The meeting will be closed to the public from 9 a.m. to 12:30 p.m. and opened to the public from 1 p.m. to 3 p.m.

DATES: The meeting is scheduled for December 8, 2008, unless otherwise notified.

ADDRESSES: The meeting will be held at the U.S. Department of Commerce, 14th Street and Constitution Avenue, NW., Washington, DC.

FOR FURTHER INFORMATION CONTACT: Laura Hellstern, DFO for ITAC-11 at (202) 482-3222, Department of Commerce, 14th Street and Constitution Avenue, NW., Washington, DC 20230.

SUPPLEMENTARY INFORMATION: During the opened portion of the meeting the following agenda items will be considered.

• Process for adding or deleting products from GSP eligibility from a country.

• U.S. Customs and Border Protection: Technical Corrections Relating to the Rules of Origin for Goods Imported Under the NAFTA and for Textile and Apparel Products: NPRM.

• Small Business Administration Update.

Colleen J. Litkenhaus,
Assistant U.S. Trade Representative for Intergovernmental Affairs and Public Liaison.

[FR Doc. E8-27652 Filed 11-19-08; 8:45 am]

BILLING CODE 3190-W9-P